DEPARTMENT OF COMMERCE

Foreign-Trade Zones Board

[Docket 19-2010]

Foreign-Trade Zone 196 - Fort Worth, Texas, Application for Manufacturing Authority, ATC Logistics & Electronics (Cell Phone Kitting and Distribution), Fort Worth, Texas

An application has been submitted to the Foreign-Trade Zones Board (the Board) by ATC Logistics & Electronics (ATCLE), operator of Site 2, FTZ 196, Fort Worth, Texas, requesting manufacturing authority. The application was submitted pursuant to the provisions of the Foreign-Trade Zones Act, as amended (19 U.S.C. 81a-81u), and the regulations of the Board (15 CFR part 400). It was formally filed on March 29, 2010.

The ATCLE facility (152 employees, 186,000 square feet, 2 million unit capacity) is used for the kitting and distribution of cell phones. Components and materials sourced from abroad (representing 96% of the value of the finished product) include: cell phone batteries; cell phone chargers and adaptors; headphones; earphones; microphones; speaker sets; battery doors; cables; holsters; leather carrying cases and pouches; wrist straps; sealing gaskets; key pads; and decals (duty rate ranges from duty free to 8.0%).

Under FTZ procedures, ATCLE would be able to choose the duty rates during customs entry procedures that apply to cell phones (duty free) for the foreign inputs noted above for its shipments to the U.S. market. ATCLE could also realize logistical benefits through the use of weekly customs entry procedures. The request indicates that the savings from FTZ procedures would help improve the plant's international competitiveness.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is June 7, 2010. Rebuttal comments in response to material submitted during the foregoing period may be submitted during the subsequent 15-day period to June 21, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Maureen Hinman at maureen.hinman@trade.gov or (202) 482-0627.

Dated: March 30, 2010.
Andrew McGilvray.
Executive Secretary.

[FR Doc. 2010-7886 Filed 4-6-10; 8:45 am]

BILLING CODE 3510-DS-S